NUCLEAR REGULATORY COMMISSION

Draft Regulatory Guide: Issuance, Availability

AGENCY: Nuclear Regulatory Commission.

ACTION: Notice of Issuance and Availability of Draft Regulatory Guide (DG)-3024.

FOR FURTHER INFORMATION CONTACT: B. Von Till, U.S. Nuclear Regulatory Commission, Washington, DC 20555-0001, telephone: (301) 415-0598 or e-mail RWV@nrc.gov.

SUPPLEMENTARY INFORMATION:

I. Introduction

The U.S. Nuclear Regulatory Commission (NRC) has issued for public comment a draft guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide (DG), entitled, “Standard Format and Content of License Applications for Conventional Uranium Mills,” is temporarily identified by its task number, DG-3024, which should be mentioned in all related correspondence. This guide describes a method that the staff of the NRC considers acceptable for use in preparing license applications for the receipt, possession, and use of source and byproduct material for conventional uranium milling. Conventional uranium milling is uranium recovery by crushing uranium ore and subjecting it to extraction processes in a mill facility to concentrate the uranium into a uranium-oxygen compound called yellowcake. This regulatory guide describes an approach that is acceptable to the NRC staff for complying with the agency's regulations in Title 10, Part 40, (Domestic Licensing of Source Material,” of the Code of Federal Regulations (10 CFR Part 40).

II. Further Information

The NRC staff is soliciting comments on DG-3024. Comments may be accompanied by relevant information or supporting data and should mention DG-3024 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-3024 may be directed to the NRC contact, B. Von Till at (301) 415-0598 or e-mail at RWV@nrc.gov.

Comments would be most helpful if received by August 4, 2008. Comments received after that date will be considered if it is practical to do so, but the NRC is able to ensure consideration only for comments received on or before this date. Although a time limit is given, comments and suggestions in connection with items for inclusion in guides currently being developed or improvements in all published guides are encouraged at any time.

Electronic copies of DG-3024 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080660033.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 23rd day of May, 2008.
For the Nuclear Regulatory Commission.
Stephen C. O'Connor,
Acting Branch Chief, Regulatory Guide Development Branch, Division of Engineering, Office of Nuclear Regulatory Research.

[FR Doc. E8-12131 Filed 5-29-08; 8:45 am]

BILLING CODE 7590-01-P